DEPARTMENT OF VETERANS AFFAIRS

Veterans' Rural Health Advisory Committee; Notice of Meeting

The Department of Veterans Affairs (VA) gives notice under Public Law 92-463 (Federal Advisory Committee Act) that a meeting of the Veterans' Rural Health Advisory Committee will hold its first meeting on September 16, 2008, in Ballroom C at the L'Enfant Plaza Hotel, 480 L'Enfant Plaza, SW., Washington, DC. The session will begin at 8 a.m. and end at 5 p.m. This meeting is open to the public.

The purpose of the Committee is to advise the Secretary of Veterans Affairs on health care issues affecting enrolled veterans residing in rural areas. The Committee will examine programs and policies that impact the provision of VA health care to enrolled veterans residing in rural areas, and discuss ways to improve and enhance VA services for these veterans.

The meeting will feature remarks and presentations by the Secretary of Veterans Affairs, the Under Secretary for Health, the Assistant Deputy Under Secretary for Health for Policy and Planning, VA Office of Rural Health managers and staff, and select Veterans Health Administration program offices.

No time will be allocated at this meeting for receiving oral presentations from the public. Interested parties should provide written comments for review by the Committee not less than 10 days in advance of the meeting to Ms. Alicia Henning, Office of Rural Health (10A5), Department of Veterans Affairs, 810 Vermont Avenue, NW., Washington, DC 20420. Individuals who wish to attend the meeting should contact Ms. Henning at (202) 461-7092.

Dated: August 12, 2008.
By Direction of the Secretary:
E. Philip Riggin,
Committee Management Officer.

[FR Doc. E8-18977 Filed 8-14-08; 8:45 am]

BILLING CODE 8320-01-P